DEPARTMENT OF THE INTERIOR

Bureau of Indian Affairs

[190A2100DD/AAKC001030/A0A501010.999900 253G; OMB Control Number 1076-0184]

Agency Information Collection Activities; Submission to the Office of Management and Budget for Review and Approval; Bureau of Indian Affairs Housing Improvement Program

AGENCY: Bureau of Indian Affairs, Interior.

ACTION: Notice of information collection; request for comment.

SUMMARY: In accordance with the Paperwork Reduction Act of 1995, the Bureau of Indian Affairs (BIA) is proposing to renew an information collection with revisions.

DATES: Interested persons are invited to submit comments on or before January 22, 2019.

ADDRESSES: Send written comments on this information collection request (ICR) to the Office of Management and Budget's Desk Officer for the Department of the Interior by email at OIRA_Submission@omb.eop.gov; or via facsimile to (202) 395-5806. Please provide a copy of your comments to Mr. Les Jensen, Bureau of Indian Affairs, 1849 C Street NW, Mail Stop 4660, Washington, DC 20240; or by email to Leslie.Jensen@bia.gov. Please reference OMB Control Number 1076-0184 in the subject line of your comments.

FOR FURTHER INFORMATION CONTACT: To request additional information about this ICR, contact Mr. Les Jensen by email at Leslie.Jensen@bia.gov, or by telephone: (907) 586-7397.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 28, 2018 (83 FR 43892). No comments were received in response to this notice.

We are again soliciting comments on the proposed ICR that is described below. We are especially interested in public comment addressing the following issues: (1) Is the collection necessary to the proper functions of the BIA (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Submission of this information allows BIA to determine applicant eligibility for housing services based upon the criteria referenced in 25 CFR 256.9 (repairs and renovation assistance) and 256.10 (replacement housing assistance). Enrolled members of federally recognized tribes, who live within a tribe's designated and approved service area, submit information on an application form. The information is collected on a BIA Form 6407, “Housing Assistance Application,” and includes: Applicant information; family information including; income information; housing information including; land information; general information; and an applicant certification. The program also seeks OMB approval for two additional collections. The Tribal Annual Performance Report (TAPR) Excel workbook file, is a tool created to simplify the process for the tribal servicing housing office to verify eligibility, rank, and rate each application received. The Government Performance Results Act (GPRA) Reporting Form is a tool created to simplify the process for the tribal servicing housing office to report the amount of administrative and construction funds spent each quarter of the first fiscal year after receipt of HIP funding.

Title of Collection: Bureau of Indian Affairs Housing Improvement Program.

OMB Control Number: 1076-0184.

Form Number: BIA-6407, Tribal Annual Performance Report (TAPR) Excel workbook, and the Government Performance Results Act (GPRA) Reporting Form.

Type of Review: Revision of currently approved collection.

Respondents/Affected Public: Individuals.

Total Estimated Number of Annual Respondents: 12,292 per year, on average.

Total Estimated Number of Annual Responses: 12,523 per year, on average.

Estimated Completion Time per Response: Varies between 15 and 30 minutes.

Total Estimated Number of Annual Burden Hours: 5,185 hours.

Respondent's Obligation: A response is required to obtain a benefit.

Frequency of Collection: Once per year for the HIP Application, HIP Addendum, and TAPR workbook. Quarterly for the GPRA Reporting form.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2018-27693 Filed 12-20-18; 8:45 am]

BILLING CODE 4337-15-P